DEPARTMENT OF ENERGY

Federal Energy Regulatory Commission

[Project No. 1984-177]

Wisconsin Power River Company; Notice of Application for Amendment of License and Soliciting Comments, Motions To Intervene, and Protests

May 14, 2010.

a. Type of Application: Non-project use of project lands and waters.

b. Project Number: 1984-177.

c. Date Filed: November 16, 2009, February 10, 2010.

d. Applicant: Wisconsin Power River Company.

e. Name of Project: Petenwell and Castle Rock Project.

f. Location: The proposed non-project use is in Adam County, Wisconsin.

g. Filed Pursuant to: Federal Power Act, 16 U.S.C. 791a-825r.

h. Applicant Contact: Mr. Shawn Puzen, Wisconsin Power River Company, P.O. Box 19001, Green Bay, Wisconsin 54307, (920) 433-1094.

i. FERC Contact: Jade Alvey at (202) 502-6864 or Jade.Alvey@ferc.gov.

j. Deadline for filing comments: June 14, 2010.

Comments may be filed electronically via the Internet, see 18 CFR 385.2001(a)(1)(iii) and the instructions on the Commission's Web site at http://www.ferc.gov under the “e-filing” link. If unable to be filed electronically, documents may be paper-filed. To paper-file, an original and eight copies should be mailed to: The Secretary, Federal Energy Regulatory Commission, 888 First Street, NE., Washington, DC 20426. For more information on how to submit these types of filings, please go to the Commission's Web site located at http://www.ferc.gov.filing-comments.asp.

Please include the project number (P-1984-177) on any comments.

k. Description of Request: The Wisconsin River Power Company filed an application seeking Commission authorization for the approval of an existing marina exceeding ten boat slips, and approval of upgrades to the existing marina. The marina is located on project lands. The filing includes documentation of consultation, a description of the areas impacted by the marina facilities, maps, and photographs.

l. Locations of the Filing: A copy of the filing is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-12238 Filed 5-20-10; 8:45 am]

BILLING CODE 6717-01-P